DEPARTMENT OF COMMERCE

National Oceanic and Atmospheric Administration

[I.D. 051305B]

Marine Mammals; File No. 116-1742

AGENCY: National Marine Fisheries Service (NMFS), National Oceanic and Atmospheric Administration (NOAA), Commerce.

ACTION: Issuance of permit amendment.

SUMMARY: Notice is hereby given that Sea World, Inc., 7007 Sea World Drive, Orlando, FL 32821, has been issued an amendment to public display Permit No. 116-1742-00 to extend the expiration date through May 21, 2006.

ADDRESSES: The amendment and related documents are available for review upon written request or by appointment in the following office(s):

Permits, Conservation and Education Division, Office of Protected Resources, NMFS, 1315 East-West Highway, Room 13705, Silver Spring, MD 20910; phone (301)713-2289; fax (301)713-0376; and

Southwest Region, NMFS, 501 West Ocean Blvd., Suite 4200, Long Beach, CA 90802-4213; phone (562)980-4001; fax (562)980-4018.

FOR FURTHER INFORMATION CONTACT: Jennifer Skidmore or Amy Sloan, (301)713-2289.

SUPPLEMENTARY INFORMATION: On May 27, 2004, notice was published in the Federal Register (69 FR 30287) that Permit No. 116-1742-00 had been issued to Sea World, Inc., 7007 Sea World Drive, Orlando, FL 32821, for the importation of one beluga whale (Delphinapterus leucas) for the purposes of public display. This permit amendment (No. 116-1742-01) extends the duration of the permit from May 21, 2005, to May 21, 2006. The requested permit amendment has been issued under the authority of the Marine Mammal Protection Act of 1972, as amended (16 U.S.C. 1361 et seq.), and the Regulations Governing the Taking and Importing of Marine Mammals (50 CFR part 216).

Dated: May 20, 2005.
Stephen L. Leathery,
Chief, Permits, Conservation and Education Division, Office of Protected Resources, National Marine Fisheries Service.

[FR Doc. 05-10666 Filed 5-26-05; 8:45 am]

BILLING CODE 3510-22-S